DEPARTMENT OF THE TREASURY

Office of Thrift Supervision

[AC-01; OTS Nos. 17970, H-4024 and H-4153]

The Rome Savings Bank, Rome, MHC, New Rome Bancorp, Inc., Rome, NY; Approval of Conversion Applications

Notice is hereby given that on February 11, 2005, the Assistant Managing Director, Examinations and Supervision—Operations, Office of Thrift Supervision (“OTS”), or her designee, acting pursuant to delegated authority, approved the application of Rome, MHC, and The Rome Savings Bank, Rome, New York, to convert to the stock form of organization. Copies of the application are available for inspection by appointment (phone number: 202-906-5922 or e-mail Public.Info@OTS.Treas.gov.) at the Public Reading Room, OTS, 1700 G Street, NW., Washington, DC 20552, and OTS Northeast Regional Office, Harborside Financial Center Plaza Five, Suite 1600, Jersey City, New Jersey 07311.

Dated: February 18, 2005.
By the Office of Thrift Supervision.
Nadine Y. Washington,
Corporate Secretary.

[FR Doc. 05-3548 Filed 2-23-05; 8:45 am]

BILLING CODE 6720-01-M